DEPARTMENT OF COMMERCE

National Oceanic and Atmospheric Administration

[RTID 0648-XB206]

Pacific Fishery Management Council; Public Meeting

AGENCY: National Marine Fisheries Service (NMFS), National Oceanic and Atmospheric Administration (NOAA), Commerce.

ACTION: Notice of public meeting.

SUMMARY: The Pacific Fishery Management Council (Pacific Council) will hold an online meeting to consider information on marine planning and offshore development planning and activities. This meeting is open to the public.

DATES: The online meeting will be held Thursday, July 22, 2021 and Friday, July 23, 2021, from 9 a.m. to 5 p.m., Pacific Daylight Time, each day. Exact meeting times may be adjusted in advance, and the meeting may be adjourned early if work for that day has been completed. The meeting agenda with specific times will be posted to the Pacific Council website in advance of the meeting.

ADDRESSES: The meeting will be held online. Specific meeting information, including directions on how to join the meeting and system requirements will be provided in the meeting announcement on the Pacific Council's website (see www.pcouncil.org). You may send an email to Mr. Kris Kleinschmidt (kris.kleinschmidt@noaa.gov, (503) 820-2412) for technical assistance.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: Representatives of the United States Bureau of Ocean Energy Management and the Pacific Council will present information related to the planning process for identifying potential offshore wind energy sites in the U.S. Exclusive Economic Zone. Representatives of Pacific Council Advisory Bodies will consider the information presented, provide feedback and advice, and develop reports to the Pacific Council for its consideration. A meeting agenda will be posted to the Pacific Council's website in advance of the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1901 et seq.

Dated: June 29, 2021.
Diane M. DeJames-Daly,
Acting Deputy Director, Office of Sustainable Fisheries, National Marine Fisheries Service.

[FR Doc. 2021-14291 Filed 7-2-21; 8:45 am]

BILLING CODE 3510-22-P